DEPARTMENT OF ENERGY

Federal Energy Regulatory Commission

[Docket No. RP02-32-001]

Columbia Gas Transmission Corp.; Notice of Compliance Filing

December 11, 2001.

Take notice that on December 5, 2001, Columbia Gas Transmission Corporation(Columbia) tendered its filing in compliance with the November 30, 2001 order issued in this proceeding accepting Columbia's Eleventh Revised Sheet No. 44 to be effective December 1, 2001, subject to refund and action in Columbia's Docket No. RP01-262.

Columbia states that copies of its filing has been sent by first-class mail, postage prepaid, by Columbia to each of the parties on the official service list in Docket No. RP01-262.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31069 Filed 12-17-01; 8:45 am]

BILLING CODE 6717-01-P